LIBRARY OF CONGRESS

Copyright Royalty Board

[Docket No. 2007-3 CRB CD 2004-2005]

Distribution of the 2004 and 2005 Cable Royalty Funds

AGENCY: Copyright Royalty Board, Library of Congress.

ACTION: Notice announcing commencement of Phase I distribution proceeding with request for Petitions to Participate.

SUMMARY: The Copyright Royalty Judges are announcing the commencement of a proceeding to determine the Phase I distribution of 2004 and 2005 royalties collected under the cable statutory license. The Judges are also announcing the date by which a party who wishes to participate in this distribution proceeding must file its Petition to Participate and the accompanying $150 filing fee.

DATES: Petitions to Participate and the filing fee are due on or before August 14, 2008.

ADDRESSES: An original, five copies, and an electronic copy in Portable Document Format (PDF) on a CD of the Petition to Participate, along with the $150 filing fee, may be delivered to the Copyright Royalty Board by either mail or hand delivery. Petitions to Participate and the $150 filing fee may not be delivered by an overnight delivery service other than the U.S. Postal Service Express Mail. If by mail (including overnight delivery), Petitions to Participate, along with the $150 filing fee, must be addressed to: Copyright Royalty Board, P.O. 70977, Washington, DC 20024-0977. If hand delivered by a private party, Petitions to Participate, along with the $150 filing fee, must be brought to the Library of Congress, James Madison Memorial Building, LM-401, 101 Independence Avenue, SE., Washington, DC 20559-6000. If delivered by a commercial courier, Petitions to Participate, along with the $150 filing fee, must be delivered to the Congressional Courier Acceptance Site, located at 2nd and D Street, NE., Washington, DC. The envelope must be addressed to: Copyright Royalty Board, Library of Congress, James Madison Memorial Building, LM-403, 101 Independence Avenue, SE., Washington, DC 20559-6000.

FOR FURTHER INFORMATION CONTACT: LaKeshia Brent, CRB Program Specialist, by telephone at (202) 707-7658 or e-mail at crb@loc.gov.

SUPPLEMENTARY INFORMATION:

Background

Each year, semiannually, cable systems must submit royalty payments to the Copyright Office as required by the cable statutory license for the privilege of retransmitting over-the-air television and radio broadcast signals. 17 U.S.C. 111. These royalties are then distributed to copyright owners whose works were included in such retransmissions and who timely filed a claim for royalties. Distribution of the royalties for each calendar year are determined by the Copyright Royalty Judges (“Judges”) in two phases. At Phase I, the royalties are divided among the representatives of the major categories of copyrightable content (movies, sports programming, music, etc.) requesting the distribution. At Phase II, the royalties are divided among the various copyright owners within each category.

This Notice announcing the commencement of a proceeding under 17 U.S.C. 803(b)(1) for distribution of cable royalties collected for 2004 and 2005 is confined to Phase I.

Commencement of Phase I Proceeding

Consistent with 17 U.S.C. 804(b)(8), the Copyright Royalty Judges determine that a Phase I controversy exists as to the distribution of the 2004 and 2005 cable royalties. We reach this determination, in this instance, for two reasons. First, several interested parties have represented to us that a Phase I controversy exists for these years. See Petition to Declare Controversy and Initiate a Phase I Proceeding for the Distribution of the 2004 and 2005 Cable Royalty Funds filed by the Motion Picture Association of America, Inc. (“MPAA”) (filed July 16, 2007); and comments filed by the following parties in Docket No. 2007-3 CRB CD 2004-2005: Independent Producers Group (filed February 28, 2008); a comment filed jointly by Program Suppliers, Joint Sports Claimants, Public Television Claimants, National Association of Broadcasters, American Society of Composers, Authors and Publishers, Broadcast Music, Inc., SESAC, Inc., National Public Radio and Canadian Claimants Group (filed February 29, 2008). Second, to date we have not received notification that any settlements have been reached for either of these years, nor have we received motions for final distribution.

The Judges are consolidating the 2004 and 2005 royalty years into a single proceeding. We note that the Librarian routinely consolidated multiple royalty years into a single proceeding in order to maximize the efficiencies associated with the distribution process. We see no reason to deviate from this practice in this instance because there appear to be no unusual issues associated with these years that would make a consolidated proceeding unduly complex. See MPAA Petition to Declare a Controversy at 2 (“anticipate that same, or closely similar, issues will be presented for both years”). Therefore, consolidation of these two years represents the most administratively efficient manner in which to determine the distribution of these royalty funds.

Petitions To Participate

Petitions to Participate must be filed in accordance with § 351.1(b) of the Judges' regulations. See 37 CFR 351.1(b). Petitions to Participate submitted by interested parties whose claims do not exceed $1,000 ¹ must contain a statement that the party will not seek a distribution of more than $1,000. No filing fee is required for these parties. We note, however, that interested parties with claims exceeding one thousand dollars ($1,000) must submit a filing fee of one hundred and fifty dollars ($150) with their Petition to Participate or it will be rejected. Cash will not be accepted; therefore, parties must pay the filing fee with a check or money order made payable to the “Copyright Royalty Board.” If a check is returned for lack of sufficient funds, the corresponding Petition to Participate will be dismissed.

¹ The Copyright Royalty Judges Program Technical Corrections Act, Public Law No. 109-303, changed the amount from $10,000 to $1,000.

Further procedural matters, including scheduling, will be addressed after Petitions to Participate have been received.

Note that in accordance with 37 CFR 350.2 (Representation), only attorneys who are members of the bar in one or more states and in good standing will be allowed to represent parties before the Copyright Royalty Judges, unless the party is an individual who represents herself or himself.

Dated: July 10, 2008.
James Scott Sledge,
Chief Copyright Royalty Judge.

[FR Doc. E8-16137 Filed 7-14-08; 8:45 am]

BILLING CODE 1410-72-P